DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact Joyce Somsak, Acting Director, Division of Vaccine Injury Compensation Program, Special Programs Bureau, Health Resources and Services Administration, 5600 Fishers Lane, Room 16C-17, Rockville, MD 20857; telephone number (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on January 5, 2004, through March 30, 2004.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading FOR FURTHER INFORMATION CONTACT), with a copy to HRSA addressed to Joyce Somsak, Acting Director, Division of Vaccine Injury Compensation Program, Special Programs Bureau, Health Resources and Services Administration, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Krystyna Kane on behalf of Miriam Labib, Somers Point, New Jersey, Court of Federal Claims Number 04-0002V.

2. Lynette and Joseph Hasson on behalf of Izzy Jack Hasson, Washington, District of Columbia, Court of Federal Claims Number 04-0003V.

3. Robert C. Blair, III, Bluefield, Virginia, Court of Federal Claims Number 04-0004V.

4. Diane and Craig Arpino on behalf of Joseph Craig Arpino, Somers Point, New Jersey, Court of Federal Claims Number 04-0005V.

5. Kelley Tomczak and Christopher Sarli on behalf of Megan Sarli, Chicago, Illinois, Court of Federal Claims Number 04-0006V.

6. Shana and Allen Denenberg on behalf of Chase Denenberg, Philadelphia, Pennsylvania, Court of Federal Claims Number 04-0014V.

7. Hieu T. Doan and Phuoc H. Nguyen on behalf of Douglas Duc Nguyen, Temecula, California, Court of Federal Claims Number 04-0015V.

8. Ivy and Nathaniel Seeds on behalf of Evan Seeds, Temecula, California, Court of Federal Claims Number 04-0016V.

9. Christy and Eric Crider on behalf of Dylan Scott Crider, Temecula, California, Court of Federal Claims Number 04-0017V.

10. Brenda and Garth Bachman on behalf of Parker Allen Bachman, Temecula, California, Court of Federal Claims Number 04-0018V.

11. Amots Grosvirt-Dramen and Sigal Dramen on behalf of Adam Dramen, Temecula, California, Court of Federal Claims Number 04-0019V.

12. Dale Sader on behalf of Garrett Sader, Temecula, California, Court of Federal Claims Number 04-0020V.

13. Rosemarie Dombrowski on behalf of Brendan Wagner, Vienna, Virginia, Court of Federal Claims Number 04-0022V.

14. Erika Cababe, Las Vegas, Nevada, Court of Federal Claims Number 04-0024V.

15. Norieta and George Stephanos on behalf of Tanner Michael Stephanos, Houston, Texas, Court of Federal Claims Number 04-0025V.

16. Teotimo and Eleuteria Sosa on behalf of Joshua Alejandro Sosa, Houston, Texas, Court of Federal Claims Number 04-0026V.

17. Deanne Palmer, Sharon, Pennsylvania, Court of Federal Claims Number 04-0029V.

18. Shannon and William Albright on behalf of Taylor Albright, Pine Bluff, Arkansas, Court of Federal Claims Number 04-0030V.

19. Debbie and Michael Graves on behalf of Haley Graves, Dallas, Texas, Court of Federal Claims Number 04-0031V.

20. Denise and Todd Glover on behalf of Chance Glover, Dallas, Texas, Court of Federal Claims Number 04-0032V.

21. Randi and Craig Garfinkel on behalf of Jaden Garfinkel, Lake Success, New York, Court of Federal Claims Number 04-0039V.

22. Chrissy and Matt McNair on behalf of Luke McNair, Lake Success, New York, Court of Federal Claims Number 04-0040V.

23. Jill Robinson, Lexington, Kentucky, Court of Federal Claims Number 04-0041V.

24. Kimberlee and Glenn Leuz on behalf of Logan Leuz, Deceased, Meadowbrook, Pennsylvania, Court of Federal Claims Number 04-0042V.

25. Carmen Gail and Rodney Lee Phillips on behalf of Carson Anthony Phillips, Van Nuys, California, Court of Federal Claims Number 04-0043V.

26. Julianne Colon on behalf of Sierra Kendall Colon, Deceased, Perrysburg, Ohio, Court of Federal Claims Number 04-0044V.

27. Charmane Collins on behalf of Sharmarie Simmons, Holtsville, New York, Court of Federal Claims Number 04-0047V.

28. Roslyn Ewah on behalf of Bryant Akeiti, Holtsville, New York, Court of Federal Claims Number 04-0048V.

29. Roslyn Ewah on behalf of Brittany Akeiti, Holtsville, New York, Court of Federal Claims Number 04-0049V.

30. Laura Orozco-Cordero on behalf of Kevin Cordero, Decatur, Texas, Court of Federal Claims Number 04-0051V.

31. Marissa and David Leal on behalf of Daniel Leal, Decatur, Texas, Court of Federal Claims Number 04-0052V.

32. Nina Fabella on behalf of Lisa Maria Arellano, Decatur, Texas, Court of Federal Claims Number 04-0053V.

33. Luisa Salinas on behalf of Joseph Anthony Guitierrez, Decatur, Texas, Court of Federal Claims Number 04-0054V.

34. Julie Fuentes on behalf of Robbye Lea Ivey, Decatur, Texas, Court of Federal Claims Number 04-0055V.

35. Joe Fuentes on behalf of Brittany Fuentes, Decatur, Texas, Court of Federal Claims Number 04-0056V.

36. Martha and Francisco Luna on behalf of Sergio Enrique Luna, Decatur, Texas, Court of Federal Claims Number 04-0057V.

37. Alma Lozano on behalf of Pierre Lozano, Decatur, Texas, Court of Federal Claims Number 04-0058V.

38. Mathal Vasquez on behalf of Rafael Vasquez, Decatur, Texas, Court of Federal Claims Number 04-0059V.

39. Veronica and Francisco Perez on behalf of Luis Angel Perez, Decatur, Texas, Court of Federal Claims Number 04-0060V.

40. Karnella McMillan on behalf of Christopher White, Houston, Texas, Court of Federal Claims Number 04-0061V.

41. Vicki Kirby on behalf of Destiny Kirby, Chicago, Illinois, Court of Federal Claims Number 04-0062V.

42. Alejandro Villalobos on behalf of Rodolfo Villalobos, Boston, Massachusetts, Court of Federal Claims Number 04-0064V.

43. Ada Sepulveda on behalf of Darian Sepulveda, Brooklyn, New York, Court of Federal Claims Number 04-0066V.

44. Joanna and Marcus Kerner on behalf of Daniel Lewis Kerner, Trabuco Canyon, California, Court of Federal Claims Number 04-0072V.

45. Mary Ann and Keiffer Markley on behalf of Noah Markley, Reisterstown, Maryland, Court of Federal Claims Number 04-0073V.

46. Michelle Weaver on behalf of William Weaver, Boston, Massachusetts, Court of Federal Claims Number 04-0076V.

47. Stewart West on behalf of Jackson West, Boston, Massachusetts, Court of Federal Claims Number 04-0077V.

48. Melissa Hartman on behalf of Julia Hartman, Boston, Massachusetts, Court of Federal Claims Number 04-0078V.

49. Marianne Lasseigne on behalf of James Lasseigne, Boston, Massachusetts, Court of Federal Claims Number 04-0079V.

50. Luanne Helms on behalf of Jake Helms, Boston, Massachusetts, Court of Federal Claims Number 04-0080V.

51. Christine and Joseph Bolander on behalf of Katlyn Bolander, New York, New York, Court of Federal Claims Number 04-0081V.

52. Teresa and Irvin Stepp on behalf of Cammi Jo Stepp, Baton Rouge, Louisiana, Court of Federal Claims Number 04-0086V.

53. Kimberly Kelly and Mark Edmonds on behalf of Blake Edwards, Philadelphia, Pennsylvania, Court of Federal Claims Number 04-0087V.

54. Melanie Hewitt on behalf of Brandan Michael Hewitt, Houston, Texas, Court of Federal Claims Number 04-0089V.

55. Patricia and Howard Alperin on behalf of Courtney Alperin, Santa Monica, California, Court of Federal Claims Number 04-0092V.

56. Laura Harris on behalf of Valarie Harris, Decatur, Georgia, Court of Federal Claims Number 04-0105V.

57. Kara and Alan Brodeur on behalf of Arlen Brodeur, Hoffman Estates, Illinois, Court of Federal Claims Number 04-0110V.

58. John Cordts, Fullerton, California, Court of Federal Claims Number 04-0111V.

59. Leslie Richards and Terrell Sheppard on behalf of Victoria Ann Sheppard, Deceased, Fort Walton Beach, Florida, Court of Federal Claims Number 04-0112V.

60. Rebecca and Kevin Peck on behalf of Spencer Peck, Overland Park, Kansas, Court of Federal Claims Number 04-0113V.

61. Delores Legros on behalf of Emile Legros, Great Neck, New York, Court of Federal Claims Number 04-0114V.

62. Sherrie Kjar on behalf of Dillon Christopher Kjar, Decatur, Texas, Court of Federal Claims Number 04-0115V.

63. Keisha and Thomas Miller on behalf of Isaiah Miller, Deceased, New Orleans, Louisiana, Court of Federal Claims Number 04-0122V.

64. Michelle Hartis on behalf of Garrett Hartis, Deceased, Boston, Massachusetts, Court of Federal Claims Number 04-0128V.

65. Brenda and Charlie Steele on behalf of Mason Steele, Vienna, Virginia, Court of Federal Claims Number 04-0136V.

66. Allison Wastak on behalf of Ashlynn Wastak, Vienna, Virginia, Court of Federal Claims Number 04-0137V.

67. Carol Sojka, Brattleboro, Vermont, Court of Federal Claims Number 04-0138V.

68. Virginia and Peter Violas on behalf of Peter Violas, Houston, Texas, Court of Federal Claims Number 04-0139V.

69. Kenneth Ulappa on behalf of Theodore Graham Ulappa, Portland, Oregon, Court of Federal Claims Number 04-0140V.

70. Darlene Crosby on behalf of Hugh Paul Dyson, Portland, Oregon, Court of Federal Claims Number 04-0141V.

71. Kellie Cirone on behalf of Stevan Cirone, Portland, Oregon, Court of Federal Claims Number 04-0142V.

72. Lisa and Timothy Thompson on behalf of Patricia Thompson, Lake Success, New York, Court of Federal Claims Number 04-0143V.

73. Bill Hoffman on behalf of Matthew Hoffman, Houston, Texas, Court of Federal Claims Number 04-0144V.

74. Joyce and Greg Wiatt on behalf of Weston Wiatt, Temecula, California, Court of Federal Claims Number 04-0147V.

75. Carla and Kenneth Sizemore on behalf of Sean Sizemore, Temecula, California, Court of Federal Claims Number 04-0148V.

76. Jeanne Ferrucci on behalf of Joseph Anthony Ferrucci, Somers Point, New Jersey, Court of Federal Claims Number 04-0151V.

77. Cynthia and James Reiners on behalf of James Robert Reiners, III, Houston, Texas, Court of Federal Claims Number 04-0152V.

78. Marianne and Anthony Salemi on behalf of Anthony Salemi, Houston, Texas, Court of Federal Claims Number 04-0153V.

79. Susan Spund on behalf of Alexandra Spund, Boston, Massachusetts, Court of Federal Claims Number 04-0156V.

80. Susan Spund on behalf of Jennifer Spund, Boston, Massachusetts, Court of Federal Claims Number 04-0157V.

81. Dorothy Young on behalf of Daniel Young, Boston, Massachusetts, Court of Federal Claims Number 04-0158V.

82. Laura Martinez on behalf of Charles Martinez, Boston, Massachusetts, Court of Federal Claims Number 04-0159V.

83. James Bryan Quattlebaum on behalf of Grant Quattlebaum, Sacramento, California, Court of Federal Claims Number 04-0160V.

84. Ana and Randy Tillim on behalf of Ryan Tillim, Sterling, Virginia, Court of Federal Claims Number 04-0162V.

85. Lona Maker on behalf of McKinley Maker, Minneapolis, Minnesota, Court of Federal Claims Number 04-0164V.

86. Ellen Schneider and Sam Alexander on behalf of Benjamin Alexander, New Orleans, Louisiana, Court of Federal Claims Number 04-0168V.

87. Nancy Cobb on behalf of Tasmin Mosby, New Orleans, Louisiana, Court of Federal Claims Number 04-0169V.

88. Sharon Muse on behalf of Drexel Muse, Jr., New Orleans, Louisiana, Court of Federal Claims Number 04-0170V.

89. Kimberly Ngo on behalf of Joanh Nguyen, New Orleans, Louisiana, Court of Federal Claims Number 04-0171V.

90. Sabrina Slattery on behalf of Kyle Baham, New Orleans, Louisiana, Court of Federal Claims Number 04-0172V.

91. Cassandra Thomas on behalf of Ryan Thomas, New Orleans, Louisiana, Court of Federal Claims Number 04-0173V.

92. Ikona Traylor on behalf of Michael Brown, New Orleans, Louisiana, Court of Federal Claims Number 04-0174V.

93. J. Danyele and Danny Tutt on behalf of Kaleb Tutt, New Orleans, Louisiana, Court of Federal Claims Number 04-0176V.

94. Traneice Victor on behalf of Malaysia Victor, New Orleans, Louisiana, Court of Federal Claims Number 04-0177V.

95. Marilyn and John Warr on behalf of John E. Warr, III, New Orleans, Louisiana, Court of Federal Claims Number 04-0178V.

96. Scott Devinney on behalf of Garret Devinney, Vienna, Virginia, Court of Federal Claims Number 04-0179V.

97. Patricia Brockman on behalf of Hannah Jacobson, Vienna, Virginia, Court of Federal Claims Number 04-0180V.

98. Susan Sexton and Michael Smith on behalf of Spencer Ryan Smith, Vienna, Virginia, Court of Federal Claims Number 04-0181V.

99. Jennifer and Joshua Mazer on behalf of Maximilian Mazer, Vienna, Virginia, Court of Federal Claims Number 04-0182V.

100. Michele Akmon on behalf of Taya Akmon, Vienna, Virginia, Court of Federal Claims Number 04-0183V.

101. Katrina and Lance Ray on behalf of Elise Victoria Ray, Saginaw, Michigan, Court of Federal Claims Number 04-0184V.

102. Rosann Landry on behalf of David Landry, Vienna, Virginia, Court of Federal Claims Number 04-0185V.

103. Jennifer Jean and Marvin Robert Oskey on behalf of Elijah Maurice Oskey, Portland, Oregon, Court of Federal Claims Number 04-0186V.

104. Denise and Scott Corbin on behalf of William Corbin, Philadelphia, Pennsylvania, Court of Federal Claims Number 04-0189V.

105. Wendy and Pausanias Alexander on behalf of Christos Alexander, Richmond, Virginia, Court of Federal Claims Number 04-0191V.

106. Miriam and James Owens on behalf of Sarah Christina Owens, Richmond, Virginia, Court of Federal Claims Number 04-0193V.

107. Katherine and Seymour Young on behalf of Anna Young, Houston, Texas, Court of Federal Claims Number 04-0194V.

108. Jade and Andrea Trahan on behalf of Dominic Trahan, Miami, Florida, Court of Federal Claims Number 04-0195V.

109. Doris and Abdel Brown on behalf of Sharif Brown, Miami, Florida, Court of Federal Claims Number 04-0196V.

110. Kerri and Robert Helmick on behalf of Kameron William Helmick, Melbourne, Florida, Court of Federal Claims Number 04-0197V.

111. Genett and Nathan Reed on behalf of Adam Reed, Philadelphia, Pennsylvania, Court of Federal Claims Number 04-0198V.

112. Joanne Patsis on behalf of Alec Jonathan Patsis, Bala Cynwyd, Pennsylvania, Court of Federal Claims Number 04-0199V.

113. Laurie and George Curry on behalf of Thomas Curry, Philadelphia, Pennsylvania, Court of Federal Claims Number 04-0200V.

114. Jeff Rousseau on behalf of Hunter Rousseau, Houston, Texas, Court of Federal Claims Number 04-0201V.

115. Jennifer and Erik Boergesson on behalf of Brigham Boergesson, Houston, Texas, Court of Federal Claims Number 04-0202V.

116. Jesus Camero on behalf of Jesus A. Camero, Houston, Texas, Court of Federal Claims Number 04-0203V.

117. Darlene and Charles DiRico on behalf of Derek DiRico, Houston, Texas, Court of Federal Claims Number 04-0204V.

118. Dana Everette, Tarboro, North Carolina, Court of Federal Claims Number 04-0205V.

119. Kathryn Moffatt on behalf of Patrick Moffatt, Somers Point, New Jersey, Court of Federal Claims Number 04-0206V.

120. Lisa and Richard Richardson on behalf of Megan Richardson, Hanover, Massachusetts, Court of Federal Claims Number 04-0208V.

121. Laura and Dan Clarke on behalf of Daniel Joseph Clarke, II, Covington, Kentucky, Court of Federal Claims Number 04-0209V.

122. Patricia Schrum, Melbourne, Florida, Court of Federal Claims Number 04-0210V.

123. Penn Schwartzenburg on behalf of Connor Schwartzenburg, Vienna, Virginia, Court of Federal Claims Number 04-0211V.

124. Lisa Gutierrez on behalf of David Gutierrez, Boston, Massachusetts, Court of Federal Claims Number 04-0215V.

125. Anne and Dean Moore on behalf of Andrew Moore, Philadelphia, Pennsylvania, Court of Federal Claims Number 04-0217V.

126. Monica and Clifton Hoffman on behalf of Clifton Hoffman, Philadelphia, Pennsylvania, Court of Federal Claims Number 04-0218V.

127. Eileen DiMarino on behalf of Drew DiMarino, Philadelphia, Pennsylvania, Court of Federal Claims Number 04-0219V.

128. Mattie and Gilbert Hattier on behalf of Fionn Hattier, Philadelphia, Pennsylvania, Court of Federal Claims Number 04-0220V.

129. Melissa and Jonathan Garner on behalf of Joshua Garner, Philadelphia, Pennsylvania, Court of Federal Claims Number 04-0221V.

130. Debra Coviak on behalf of Alexander Coviak, Somers Point, New Jersey, Court of Federal Claims Number 04-0222V.

131. Linda Tutza on behalf of Peter Leal, Boston, Massachusetts, Court of Federal Claims Number 04-0223V.

132. Lori and Scott Cox on behalf of Tyler Austin Cox, Decatur, Texas, Court of Federal Claims Number 04-0224V.

133. Sarita and Peter Lang on behalf of Talan Lang, Houston, Texas, Court of Federal Claims Number 04-0227V.

134. Martha and Paul Brach on behalf of Sam Brach, Houston, Texas, Court of Federal Claims Number 04-0228V.

135. Maria and Mario Ramirez on behalf of Andre Ramirez, Houston, Texas, Court of Federal Claims Number 04-0229V.

136. Sarita and Peter Lang on behalf of Trevan Lang, Houston, Texas, Court of Federal Claims Number 04-0230V.

137. Michelle Bennett on behalf of Brandon Derrick Hernandez, Sandusky, Michigan, Court of Federal Claims Number 04-0232V.

138. Christine and Jeffrey Sanders on behalf of Matthew Serget Sanders, Richmond, Virginia, Court of Federal Claims Number 04-0234V.

139. Diane and Peter Tenore on behalf of Haley Morgan Tenore, Richmond, Virginia, Court of Federal Claims Number 04-0235V.

140. Ember Plumlee, Little Rock, Arkansas, Court of Federal Claims Number 04-0241V.

141. Jennifer and Troy Armstrong on behalf of Bryant Armstrong, Cleveland, Mississippi, Court of Federal Claims Number 04-0242V.

142. Amy and Stephen Pincus on behalf of Mark Gregory Pincus, Baton Rouge, Louisiana, Court of Federal Claims Number 04-0243V.

143. Linda Tutza on behalf of Peter Leal, Huntington, Vermont, Court of Federal Claims Number 04-0244V.

144. Susan Goewey and William Carey on behalf of Luke Owen Carey, Richmond, Virginia, Court of Federal Claims Number 04-0245V.

145. Jennifer Deoliveira on behalf of Isaiah Deoliviera, Boston, Massachusetts, Court of Federal Claims Number 04-0246V.

146. Jennifer Landau on behalf of Caleb Landau, Boston, Massachusetts, Court of Federal Claims Number 04-0247V.

147. Kristin and Jeffrey Morrison on behalf of Wade Morrison, Alexandria, Virginia, Court of Federal Claims Number 04-0251V.

148. Moses Lacy on behalf of Rachel Lacy, Deceased, Fort McCoy, Wisconsin, Court of Federal Claims Number 04-0253V.

149. Cindy Bramblett on behalf of Tiffany Bramblett, Vienna, Virginia, Court of Federal Claims Number 04-0255V.

150. Suihua Zhu and Bin Zhao on behalf of Fiona Zhao, Houston, Texas, Court of Federal Claims Number 04-0257V.

151. Eva J. Coiro-Lorusso and Nicola Lorusso on behalf of Umberto Lorusso, Melbourne, Florida, Court of Federal Claims Number 04-0258V.

152. Tammy and Joseph Hodges on behalf of Joseph Christopher Hodges, Houston, Texas, Court of Federal Claims Number 04-0259V.

153. Jenell and Randall Bailey on behalf of Joel Bailey, Portland, Oregon, Court of Federal Claims Number 04-0260V.

154. Jenell and Randall Bailey on behalf of David Bailey, Portland, Oregon, Court of Federal Claims Number 04-0261V.

155. Jenell and Randall Bailey on behalf of James Bailey, Portland, Oregon, Court of Federal Claims Number 04-0262V.

156. Stephanie James on behalf of Nicholas James, Portland, Oregon, Court of Federal Claims Number 04-0263V.

157. Kelly Ray and Leslie Duncan on behalf of Zachary Duncan, Portland, Oregon, Court of Federal Claims Number 04-0264V.

158. Carla and William Whiteside on behalf of Lauren Whiteside, Deceased, Lincolnton, North Carolina, Court of Federal Claims Number 04-0266V.

159. Arkadiusz and Bozena Zarzycka on behalf of Alan Victor Zarzycka, Houston, Texas, Court of Federal Claims Number 04-0268V.

160. Francine and Bennett Zuck on behalf of Adin Jacob Zuck, Houston, Texas, Court of Federal Claims Number 04-0269V.

161. Carolyn Proper and Gary Wimbish on behalf of Nicholas Wimbish, Norcross, Georgia, Court of Federal Claims Number 04-0271V.

162. Edie and William Nale on behalf of William Nale, Dallas, Texas, Court of Federal Claims Number 04-0272V.

163. Janis Talebizadeh, Valencia, California, Court of Federal Claims Number 04-0273V.

164. Wasfi Meshagbeh on behalf of Karam Al-Meshagbeh, Troy, Michigan, Court of Federal Claims Number 04-0274V.

165. Julie and Mark Hutton on behalf of Caleb Hutton, Portland, Oregon, Court of Federal Claims Number 04-0275V.

166. Anna Smith on behalf of Ryan Smith, Portland, Oregon, Court of Federal Claims Number 04-0276V.

167. Amanda and Richard Coe on behalf of Colton Coe, Alexandria, Virginia, Court of Federal Claims Number 04-0278V.

168. Karen and David Zwemer on behalf of Andrew Zwemer, Vero Beach, Florida, Court of Federal Claims Number 04-0281V.

169. Aydin Rza on behalf of Camilla Rza, Lake Success, New York, Court of Federal Claims Number 04-0282V.

170. Cynthia and David Emminger on behalf of David Thomas Emminger, Lake Success, New York, Court of Federal Claims Number 04-0283V.

171. Heather and Aaron Bostic on behalf of Colin Bostic, Portland, Oregon, Court of Federal Claims Number 04-0285V.

172. Cheryl and Timothy Lozon on behalf of Christopher Lozon, Gaithersburg, Maryland, Court of Federal Claims Number 04-0286V.

173. Deana Orth on behalf of Nicholas Orth, Boston, Massachusetts, Court of Federal Claims Number 04-0292V.

174. Katrina Dyer-Alexander on behalf of Amya Alexander, Boston, Massachusetts, Court of Federal Claims Number 04-0293V.

175. Corina Ianculovici on behalf of Christopher Ianculovici, Boston, Massachusetts, Court of Federal Claims Number 04-0294V.

176. Beth Schmied on behalf of William Schmied, Portland, Oregon, Court of Federal Claims Number 04-0298V.

177. Ellen and Paul Mazzie on behalf of Eric Mazzie, North Reading, Massachusetts, Court of Federal Claims Number 04-0305V.

178. Susan and Mike Killiany on behalf of Dominic Killiany, Dover, New Hampshire, Court of Federal Claims Number 04-0306V.

179. Debbie and Terrence Kavanagh on behalf of Julia Kavanagh, Dover, New Hampshire, Court of Federal Claims Number 04-0307V.

180. Beverly and Edward Messina on behalf of Harrison Messina, Peabody, Massachusetts, Court of Federal Claims Number 04-0308V.

181. Beverly and Edward Messina on behalf of Charles Messina, Peabody, Massachusetts, Court of Federal Claims Number 04-0309V.

182. Kelly and Guido Melo on behalf of Lindsey Melo, North Dartmouth, Massachusetts, Court of Federal Claims Number 04-0310V.

183. Joanna Callinan on behalf of Patrick Callinan, Sommerville, Massachusetts, Court of Federal Claims Number 04-0311V.

184. Gail Carnes on behalf of Matthew Carnes, Hyde Park, Massachusetts, Court of Federal Claims Number 04-0312V.

185. Elizabeth and Bruce Collins on behalf of Ruby Collins, Quincy, Massachusetts, Court of Federal Claims Number 04-0313V.

186. Elizabeth and Matthew Corbeil on behalf of Bradley Corbeil, Salem, Massachusetts, Court of Federal Claims Number 04-0314V.

187. Gerald Dorsainvil on behalf of Nicholas Dorsainvil, Cambridge, Massachusetts, Court of Federal Claims Number 04-0315V.

188. John Doherty on behalf of Erica Rose Doherty, Torrance, California, Court of Federal Claims Number 04-0316V.

189. Paula and Lawrence Haite on behalf of Ryan Haite, Boston, Massachusetts, Court of Federal Claims Number 04-0317V.

190. Rita and Albert Gingras on behalf of Nicholas Gingras, Medford, Massachusetts, Court of Federal Claims Number 04-0318V.

191. Alison Bushnell on behalf of Joshua Bushnell, Boulder, Colorado, Court of Federal Claims Number 04-0319V.

192. Moulay and Shadiya Patton-Bey on behalf of Ilyas Patton-Bey, Memphis, Tennessee, Court of Federal Claims Number 04-0320V.

193. Linda and Michael Ball on behalf of Cameron Ball, Hartford, Connecticut, Court of Federal Claims Number 04-0321V.

194. Judith Baron on behalf of Julianne Baron, Boston, Massachusetts, Court of Federal Claims Number 04-0322V.

195. Marc Baron on behalf of Matthew Baron, Northhampton, Massachusetts, Court of Federal Claims Number 04-0323V.

196. Debra and Brian Richardson on behalf of Zachary Richardson, Newburyport, Massachusetts, Court of Federal Claims Number 04-0324V.

197. Jose Recinos on behalf of David Recinos, Boston, Massachusetts, Court of Federal Claims Number 04-0325V.

198. Andrea and Michael Phelan on behalf of Michael Phelan, Reading, Massachusetts, Court of Federal Claims Number 04-0326V.

199. Kathleen and William Paquette on behalf of William Paquette, Jr., Cambridge, Massachusetts, Court of Federal Claims Number 04-0327V.

200. Debora and Paul Smith on behalf of Paul Smith, Boston, Massachusetts, Court of Federal Claims Number 04-0328V.

201. Cynthia Bergeron on behalf of Joshua Bergeron, North Adams, Massachusetts, Court of Federal Claims Number 04-0329V.

202. Sandra and Gregory Strickland on behalf of Adrian Delisha Strickland, Houston, Texas, Court of Federal Claims Number 04-0330V.

203. Kelly Carver on behalf of Andrea Dawn Carver, Sedalia, Missouri, Court of Federal Claims Number 04-0331V.

204. Ethel Clark on behalf of Tameria Le'Na Clark, Houston, Texas, Court of Federal Claims Number 04-0332V.

205. Nicole White on behalf of Kenneth White, New Orleans, Louisiana, Court of Federal Claims Number 04-0337V.

206. Cheryl Smith on behalf of Darrell Lamont Whickum, New Orleans, Louisiana, Court of Federal Claims Number 04-0338V.

207. Mia Merrell on behalf of Anthony Merrell, New Orleans, Louisiana, Court of Federal Claims Number 04-0339V.

208. Melinda Horsley on behalf of Joseph Neal Horsley, New Orleans, Louisiana, Court of Federal Claims Number 04-0340V.

209. Jowanda Gross on behalf of Jo'Vohn Gross, New Orleans, Louisiana, Court of Federal Claims Number 04-0341V.

210. Kimberly Duhe on behalf of Andrew Duhe, New Orleans, Louisiana, Court of Federal Claims Number 04-0342V.

211. Lakeisha Catchings on behalf of Juan Catchings, New Orleans, Louisiana, Court of Federal Claims Number 04-0343V.

212. Kimberly and Lloyd Matherne on behalf of Shyler Thompson, New Orleans, Louisiana, Court of Federal Claims Number 04-0344V.

213. Edna Thomas on behalf of Yvad Marcel Diaz, New Orleans, Louisiana, Court of Federal Claims Number 04-0345V.

214. Sharon Roublau on behalf of Justin Michael Castanedo, New Orleans, Louisiana, Court of Federal Claims Number 04-0346V.

215. Kimberly Montgomery on behalf of Dewayne Reed, New Orleans, Louisiana, Court of Federal Claims Number 04-0347V.

216. Tina Malonson on behalf of Zachery Malonson, New Orleans, Louisiana, Court of Federal Claims Number 04-0348V.

217. Leslie Landry on behalf of Deont'a Landry, New Orleans, Louisiana, Court of Federal Claims Number 04-0349V.

218. Rose Lanasa on behalf of Henry Matthew Lanasa, New Orleans, Louisiana, Court of Federal Claims Number 04-0350V.

219. Angela Green on behalf of Angel Green, New Orleans, Louisiana, Court of Federal Claims Number 04-0351V.

220. Ashante Isaac on behalf of Tyran Gordon, New Orleans, Louisiana, Court of Federal Claims Number 04-0352V.

221. Randolph Doubleday on behalf of Randolph Doubleday, Jr., New Orleans, Louisiana, Court of Federal Claims Number 04-0353V.

222. Maria Chriss on behalf of Jared Anthony Chriss, New Orleans, Louisiana, Court of Federal Claims Number 04-0354V.

223. Tiffany Chopin on behalf of Giovanni Chopin, New Orleans, Louisiana, Court of Federal Claims Number 04-0355V.

224. Candida Breaux on behalf of Ty Jakob Breaux, New Orleans, Louisiana, Court of Federal Claims Number 04-0356V.

225. Blanche Boss on behalf of Cory Boss, New Orleans, Louisiana, Court of Federal Claims Number 04-0357V.

226. Julie and Eric Hand on behalf of James Hand, Chicago, Illinois, Court of Federal Claims Number 04-0358V.

227. Richard Rosypal on behalf of Jacob Frank Rosypal, Melbourne, Florida, Court of Federal Claims Number 04-0359V.

228. Daughn and William Sage on behalf of Joshua Sage, College Park, Georgia, Court of Federal Claims Number 04-0360V.

229. Christina and James Vanderford on behalf of Dustin Andrew Vanderford, Oxford, Mississippi, Court of Federal Claims Number 04-0361V.

230. Cheryl and William Tourville on behalf of Cole Benjamin Tourville, Maplewood, Minnesota, Court of Federal Claims Number 04-0362V.

231. Valerie and John Travis on behalf of Jacob Russell Travis, Houston, Texas, Court of Federal Claims Number 04-0363V.

232. Candy and Steven Varney on behalf of Steven J. Varney, Shelbiana, Kentucky, Court of Federal Claims Number 04-0364V.

233. Maryalyce and Ronald Turner on behalf of Kelly Amber Turner, Wading River, New York, Court of Federal Claims Number 04-0365V.

234. Tracey Captan on behalf of Jade Captan, Lindenwold, New Jersey, Court of Federal Claims Number 04-0369V.

235. Tammee and Brian Trawick on behalf of Jack Nelson Trawick, Fort Polk, Louisiana, Court of Federal Claims Number 04-0371V.

236. Talora Simpson on behalf of Khalil Da Juan Cowan, Toledo, Ohio, Court of Federal Claims Number 04-0372V.

237. Rhoda and Albert Sancho on behalf of Albert Burgess Sancho, Jr., Chicago, Illinois, Court of Federal Claims Number 04-0373V.

238. Leslie and Kelly Scott on behalf of Kelly Lee Scott, II, Wheeling, West Virginia, Court of Federal Claims Number 04-0374V.

239. Pamela and Joseph Sarli on behalf of Brian Joseph Sarli, Mentor, Ohio, Court of Federal Claims Number 04-0375V.

240. Kelly Anne Svedine on behalf of Nicholas Ryan Svedine, Plymouth, Massachusetts, Court of Federal Claims Number 04-0376V.

241. Vatanya and Nathaniel Smith on behalf of Zachary Nathan Smith, Plano, Texas, Court of Federal Claims Number 04-0377V.

242. Danielle Temple on behalf of Shane Nicholas Temple, Cincinnati, Ohio, Court of Federal Claims Number 04-0378V.

243. Lola and Michael Smith on behalf of Jeremiah James Smith, Richardson, Texas, Court of Federal Claims Number 04-0379V.

244. Maureen and Steve Awuzie on behalf of Brandon Chime Awuzie, San Jose, California, Court of Federal Claims Number 04-0380V.

245. Maureen and Steve Awuzie on behalf of Bradley Chima Awuzie, San Jose, California, Court of Federal Claims Number 04-0381V.

246. Jacqueline Hendrickson on behalf of Shane Hendrickson, Boston, Massachusetts, Court of Federal Claims Number 04-0386V.

247. Jacqueline Hendrickson on behalf of Liam Hendrickson, Boston, Massachusetts, Court of Federal Claims Number 04-0387V.

248. Jennifer and Christian White on behalf of Madison White, Ann Arbor, Michigan, Court of Federal Claims Number 04-0389V.

249. Melanie and Scott Davis on behalf of Jonathan Perrin Davis, Temecula, California, Court of Federal Claims Number 04-0390V.

250. Marylou and William Gifford on behalf of Samuel Gifford, Temecula, California, Court of Federal Claims Number 04-0391V.

251. Felicia and Tyrone Gaston on behalf of Tylicia La'Bria Gaston, Atlanta, Georgia, Court of Federal Claims Number 04-0392V.

252. Claire and Brian Dempsey on behalf of Zachary William Dempsey, Atlanta, Georgia, Court of Federal Claims Number 04-0393V.

253. Claire and Brian Dempsey on behalf of Kyle Joseph Dempsey, Atlanta, Georgia, Court of Federal Claims Number 04-0394V.

254. Jayne Duncan Cozic on behalf of Benjamin Cozic, Atlanta, Georgia, Court of Federal Claims Number 04-0395V.

255. Sheila and James Cassity on behalf of Ethan Pierce Cassity, Atlanta, Georgia, Court of Federal Claims Number 04-0396V.

256. Jo Ann and David Byrne on behalf of Andrew Byrne, Atlanta, Georgia, Court of Federal Claims Number 04-0397V.

257. Jo Ann and David Byrne on behalf of Nicholas David Byrne, Atlanta, Georgia, Court of Federal Claims Number 04-0398V.

258. Rebecca and Hubert Andrew Way on behalf of Blake Allen Way, Atlanta, Georgia, Court of Federal Claims Number 04-0399V.

259. Christy Craft and Edward Judson on behalf of Alexander Clinton Judson, Atlanta, Georgia, Court of Federal Claims Number 04-0400V.

260. Rebecca and Hubert Andrew Way on behalf of Grant Baird Way, Atlanta, Georgia, Court of Federal Claims Number 04-0401V.

261. Lyndelle and William Thomas Redwood on behalf of Will Redwood, Atlanta, Georgia, Court of Federal Claims Number 04-0402V.

262. Jeanette and L. Howard O'Dell on behalf of Trent Joshua O'Dell, Atlanta, Georgia, Court of Federal Claims Number 04-0403V.

263. Marcie and Nathan Brook on behalf of Alan Brook, Vienna, Virginia, Court of Federal Claims Number 04-0405V.

264. Mita Floria on behalf of Callie Floria, Boston, Massachusetts, Court of Federal Claims Number 04-0407V.

265. Mita Floria on behalf of Caitlin Floria, Boston, Massachusetts, Court of Federal Claims Number 04-0408V.

266. Robert Malone on behalf of Unity Malone, Boston, Massachusetts, Court of Federal Claims Number 04-0409V.

267. Robert Malone on behalf of Emmanuel Malone, Boston, Massachusetts, Court of Federal Claims Number 04-0410V.

268. Eddie and Monica Hughes on behalf of Eddie Hughes, IV, New Orleans, Louisiana, Court of Federal Claims Number 04-0412V.

269. Angel and Russell Fontenot on behalf of Russell Fontenot, Jr., New Orleans, Louisiana, Court of Federal Claims Number 04-0413V.

270. Linda and Dennis Stewart on behalf of Alexander Stewart, Miami, Florida, Court of Federal Claims Number 04-0414V.

271. Lisa and Donald Geisler on behalf of David Jacob Geisler, Houston, Texas, Court of Federal Claims Number 04-0416V.

272. Allison Kennedy on behalf of Jacob Kennedy, Houston, Texas, Court of Federal Claims Number 04-0417V.

273. Deidra and Jeffrey Ransom on behalf of Benjamin Ransom, Houston, Texas, Court of Federal Claims Number 04-0418V.

274. Sydnee and Jon Jorgl on behalf of Ian Jorgl, Houston, Texas, Court of Federal Claims Number 04-0419V.

275. Lisa Ferrell on behalf of Donovan Wyckoff, Houston, Texas, Court of Federal Claims Number 04-0420V.

276. Jennifer and Joseph Nolan on behalf of Joseph Nolan, Lake Grove, New York, Court of Federal Claims Number 04-0422V.

277. Juliane Baldasaro, Boston, Massachusetts, Court of Federal Claims Number 04-0426V.

278. Karen Douglas on behalf of Keston Douglas, Boston, Massachusetts, Court of Federal Claims Number 04-0427V.

279. Lorraine White on behalf of Colton Falcone, Boston, Massachusetts, Court of Federal Claims Number 04-0428V.

280. Marisol Otero-Morales on behalf of Gabriel Morales, Boston, Massachusetts, Court of Federal Claims Number 04-0429V.

281. Rakesh Radhakrishnan on behalf of Arjun Radhakrishnan, Boston, Massachusetts, Court of Federal Claims Number 04-0430V.

282. Regina and Ken Bradley on behalf of Jazz Hunter Goff, Houston, Texas, Court of Federal Claims Number 04-0431V.

283. Lucrecia Baldwin behalf of Christopher Arnold, Troy, Alabama, Court of Federal Claims Number 04-0432V.

284. Kathy Atkins on behalf of Kimberly Nicole Atkins, Kettering, Ohio, Court of Federal Claims Number 04-0433V.

285. Tony Lavette Allen on behalf of Xavier Enrique Allen, Arkadelphia, Arkansas, Court of Federal Claims Number 04-0434V.

286. Sherri Beaver on behalf of Brandon Lee Taylor, Columbus, Ohio, Court of Federal Claims Number 04-0435V.

287. Donna and Timothy Barber on behalf of Alyssa Lauren Barber, Edina, Minnesota, Court of Federal Claims Number 04-0436V.

288. Linda Armstrong on behalf of Joshua Earl Armstrong, Washington, District of Columbia, Court of Federal Claims Number 04-0437V.

289. Laura and Douglas Turner on behalf of Matthew Douglas Turner, La Honda, California, Court of Federal Claims Number 04-0438V.

290. Sue and Randy Becker on behalf of Cheyanne Rose Becker, Pittsburgh, Pennsylvania, Court of Federal Claims Number 04-0439V.

291. Amanda and Bruce Manuel on behalf of Magan Faith Manuel, Eunice, Louisiana, Court of Federal Claims Number 04-0441V.

292. Teresa and Francis Wickersham on behalf of Francis Wickersham, Houston, Texas, Court of Federal Claims Number 04-0442V.

293. Holli and Matthew Filewood on behalf of Colin Filewood, Houston, Texas, Court of Federal Claims Number 04-0443V.

294. Teresa and Francis Wickersham on behalf of Alexander Wickersham, Houston, Texas, Court of Federal Claims Number 04-0444V.

295. Eleonor Tester on behalf of Austin Tester, Houston, Texas, Court of Federal Claims Number 04-0445V.

296. Lisa Ferrell on behalf of Donovan Wyckoff, Houston, Texas, Court of Federal Claims Number 04-0446V.

297. Tara and Carroll Bohannon on behalf of Nicklas Bohannon, Houston, Texas, Court of Federal Claims Number 04-0447V.

298. Michele Sicillano on behalf of Vincent Sicillano, Ligonier, Pennsylvania, Court of Federal Claims Number 04-0449V.

299. Penny and Joseph Catalano on behalf of Joseph Dominic Catalano, Vienna, Virginia, Court of Federal Claims Number 04-0450V.

300. Kristine Davis on behalf of Joseph Davis, Vienna, Virginia, Court of Federal Claims Number 04-0451V.

301. Jeff Trelka on behalf of Lillian Trelka, Vienna, Virginia, Court of Federal Claims Number 04-0452V.

302. Jeff Trelka on behalf of Helena Trelka, Vienna, Virginia, Court of Federal Claims Number 04-0453V.

303. Cynthia Sauer on behalf of Michael Sauer, Vienna, Virginia, Court of Federal Claims Number 04-0454V.

304. Debra Gilbert on behalf of Adam Gilbert, Cleveland, Ohio, Court of Federal Claims Number 04-0455V.

305. Maria and Roberto Ochoa on behalf of Roberto Ochoa, Dallas, Texas, Court of Federal Claims Number 04-0456V.

306. Maria and Roberto Ochoa on behalf of Ricardo Ochoa, Dallas, Texas, Court of Federal Claims Number 04-0457V.

307. Daniel Betancourt, Houston, Texas, Court of Federal Claims Number 04-0458V.

308. Elizabeth Lewis and Quentin Yeats Woodhead on behalf of Henry Lewis Woodhead, Richmond, Virginia, Court of Federal Claims Number 04-0462V.

309. Joan and Todd Shepherd on behalf of Tate Shepherd, Dallas, Texas, Court of Federal Claims Number 04-0464V.

310. Janet and Adam Callens on behalf of Liam Callens, Alexandria, Virginia, Court of Federal Claims Number 04-0465V.

311. Janet and Adam Callens on behalf of Dharma Callens, Alexandria, Virginia, Court of Federal Claims Number 04-0466V.

312. Dorothy and Ricky Loupe on behalf of Blaine Loupe, Baton Rouge, Louisiana, Court of Federal Claims Number 04-0467V.

313. Dorothy and Ricky Loupe on behalf of Blair Loupe, Baton Rouge, Louisiana, Court of Federal Claims Number 04-0468V.

314. Priscilla Vogel on behalf of Brandon Quesada, Somers Point, New Jersey, Court of Federal Claims Number 04-0469V.

315. Marcy Townsend on behalf of Aaron Biehle, Boston, Massachusetts, Court of Federal Claims Number 04-0474V.

316. Julia Jones on behalf of Alex Jones, Boston, Massachusetts, Court of Federal Claims Number 04-0475V.

317. Karen Raposa on behalf of Thomas Raposa, Boston, Massachusetts, Court of Federal Claims Number 04-0476V.

318. Patricia Lewis on behalf of Ian Lewis, Boston, Massachusetts, Court of Federal Claims Number 04-0477V.

319. Patricia Lewis on behalf of Hannah Lewis, Boston, Massachusetts, Court of Federal Claims Number 04-0478V.

320. Hilary and Brian Rodriguez on behalf of Pierce Rodriguez, Dallas, Texas, Court of Federal Claims Number 04-0479V.

321. Joseph Giusti, Oak Park, Illinois, Court of Federal Claims Number 04-0486V.

322. Cathleen and Alan Flynt on behalf of Christian Joey Flynt, Houston, Texas, Court of Federal Claims Number 04-0488V.

323. E'Lise Anne Fogle on behalf of Christopher Allen Fogle, Fairfax, Virginia, Court of Federal Claims Number 04-0489V.

324. Dianna and Christopher Davis on behalf of Michael Josiah Davis, El Camino, California, Court of Federal Claims Number 04-0490V.

325. Connie and James Bell on behalf of Nathan Daniel Bell, Hamilton, Ohio, Court of Federal Claims Number 04-0491V.

326. Lori and Daniel McCoy on behalf of Austin Paul McCoy, Yardley, Pennsylvania, Court of Federal Claims Number 04-0492V.

327. Wanda and Quentin Evans on behalf of Joshua Mackenzie Evans, Albany, Georgia, Court of Federal Claims Number 04-0493V.

328. Michelle and Daren Forney on behalf of Jessica Breanne Forney, Fort Collins, Colorado, Court of Federal Claims Number 04-0494V.

329. Angela and Steve Forster on behalf of Marshall Nathaniel Forster, Houston, Texas, Court of Federal Claims Number 04-0495V.

330. Cynthia and William McIntyre on behalf of Kevin Donald McIntyre, Mokena, Illinois, Court of Federal Claims Number 04-0496V.

331. Kai Ellen and Darreck Bucher on behalf of Hadleigh Kai Bucher, Kalispell, Montana, Court of Federal Claims Number 04-0499V.

332. Mary Morriss on behalf of Grace Morriss, Bronxville, New York, Court of Federal Claims Number 04-0502V.

333. Yvonne Walton, Austin, Texas, Court of Federal Claims Number 04-0503V.

334. Deborah Arrington on behalf of Devonte Anthony Jones, New Orleans, Louisiana, Court of Federal Claims Number 04-0506V.

335. Carey Augustin on behalf of James Tevin Augustin, New Orleans, Louisiana, Court of Federal Claims Number 04-0507V.

336. Cassandra Berry on behalf of Qu'Ave Berry, New Orleans, Louisiana, Court of Federal Claims Number 04-0508V.

337. Shantell Bishop on behalf of Ro'Shone Bishop, New Orleans, Louisiana, Court of Federal Claims Number 04-0509V.

338. Acquanette Bornes on behalf of Jared Cy-Anthony Bornes, New Orleans, Louisiana, Court of Federal Claims Number 04-0510V.

339. Jacqueline Brown on behalf of Matthew Sloan Brown, New Orleans, Louisiana, Court of Federal Claims Number 04-0511V.

340. Lorraine Clark on behalf of Tia Ware, New Orleans, Louisiana, Court of Federal Claims Number 04-0512V.

341. Lisa Cox on behalf of Candace Mary Cox, New Orleans, Louisiana, Court of Federal Claims Number 04-0513V.

342. Victoria Echeverry on behalf of Michael Echeverry, New Orleans, Louisiana, Court of Federal Claims Number 04-0514V.

343. Dawn Harvey on behalf of Candice Maria Harvey, New Orleans, Louisiana, Court of Federal Claims Number 04-0515V.

344. Catrece Hawkins on behalf of Nathaniel Hawkins, New Orleans, Louisiana, Court of Federal Claims Number 04-0516V.

345. Dianell Jenkins on behalf of Devante Darius Jenkins, New Orleans, Louisiana, Court of Federal Claims Number 04-0517V.

346. Kim Labit on behalf of Richard Labit, New Orleans, Louisiana, Court of Federal Claims Number 04-0518V.

347. Dottie Loupe on behalf of Blaine Loupe, New Orleans, Louisiana, Court of Federal Claims Number 04-0519V.

348. Delilah Pabst on behalf of Forrest Mince, New Orleans, Louisiana, Court of Federal Claims Number 04-0520V.

349. Karen Singleton on behalf of Kenton Singleton, New Orleans, Louisiana, Court of Federal Claims Number 04-0521V.

350. Cameron and William Wells on behalf of Gina Wells, Bala Cynwyd, Pennsylvania, Court of Federal Claims Number 04-0524V.

351. Susan and Christopher Govatsos on behalf of Adam Charles Govatsos, Cohasset, Massachusetts, Court of Federal Claims Number 04-0525V.

352. Judith and Ewanshia Graham on behalf of Zaramoji Jay Graham, Houston, Texas, Court of Federal Claims Number 04-0526V.

353. Tammi and Don Hudson on behalf of Trevor Don Hudson, Fort Worth, Texas, Court of Federal Claims Number 04-0527V.

354. Patricia Noeggerath and Gerardo Garces on behalf of Sebastian Noeggerath Garces, Dallas, Texas, Court of Federal Claims Number 04-0528V.

355. Julia Howard on behalf of Julian Lee Howard, Chicago, Illinois, Court of Federal Claims Number 04-0529V.

356. Terri and Jimmy Milton on behalf of Brandon Tyrell Milton, Mobile, Alabama, Court of Federal Claims Number 04-0530V.

357. Elizabeth Mills on behalf of Phillip Taylor Mills, Baltimore, Maryland, Court of Federal Claims Number 04-0531V.

358. Amelia and Daniel Hummel on behalf of Jeremy Cole Hummel, Philipsburg, Pennsylvania, Court of Federal Claims Number 04-0532V.

359. Adriana and Jesus Gonzalez on behalf of Jesus Eduardo Gonzalez, Los Angeles, California, Court of Federal Claims Number 04-0533V.

360. Mary Ann Chestnut, Philadelphia, Pennsylvania, Court of Federal Claims Number 04-0534V.

361. Renetta Denise Ritter on behalf of Hunter Todd Glick, Dallas, Texas, Court of Federal Claims Number 04-0535V.

362. Brandy and Robert Decourcey on behalf of Robert Nelson Decourcey, Jr., Boyd, Kentucky, Court of Federal Claims Number 04-0536V.

363. Victoria and Percy Williams on behalf of Deon Edward Davis, Houston, Texas, Court of Federal Claims Number 04-0537V.

364. Bella Lapidus and Dimitry Gerzon on behalf of Roshel Sheina Gerzon, Woodland Hills, California, Court of Federal Claims Number 04-0538V.

365. Heidi and Tom Gallant on behalf of Lucas Walker Gallant, Mesa, Arizona, Court of Federal Claims Number 04-0539V.

366. Connie Garcia on behalf of Nicky Gabriel Garcia, San Bernardino, California, Court of Federal Claims Number 04-0540V.

Dated: September 14, 2004.
Elizabeth M. Duke,
Administrator.

[FR Doc. 04-21223 Filed 9-21-04; 8:45 am]

BILLING CODE 4165-15-P